DEPARTMENT OF HEALTH AND HUMAN SERVICES

Centers for Disease Control and Prevention

Cooperative Agreement With the Kenya Medical Research Institute (KEMRI); Notice of Intent To Fund Single Eligibility Award

A. Purpose

The Centers for Disease Control and Prevention (CDC) announces the intent to fund fiscal year (FY) 2005 funds for a cooperative agreement program to:

1. To conduct field and laboratory research and implement public health programs on important human infectious diseases, with an emphasis on HIV/AIDS, malaria, emerging and other emerging and re-emerging infectious diseases as well as other identifiable public health problems.

2. To provide training for students and public health professionals in basic and applied public health research, public health program planning, implementation and evaluation and other related issues such as data collection, financial planning and management.

3. To strengthen the Kenya Medical Research Institute KEMRI) institutional capacity to conduct research, plan, implement and evaluate public health programs, provide surveillance, and develop interventions as well as support national and regional infectious disease identification and control efforts.

4. To incorporate the results of research into operational disease prevention and control programs in the Republic of Kenya and ensure sharing of expertise and research findings with other nations.

The Catalog of Federal Domestic Assistance number for this program is 93.283.

B. Eligible Applicant

Assistance will be provided only to KEMRI. No other applications are solicited. KEMRI is the most appropriate and qualified agency to conduct the activities specified under this cooperative agreement because:

1. KEMRI is the only research organization in Kenya that possesses the requisite scientific and technical expertise, the infrastructure capacity and who has conducted malaria and HIV research in areas of high morbidity (20 years for malaria and 10 years for HIV/AIDS). These combined attributes make them uniquely qualified as the only organization in Kenya capable of effectively conducting the research and public health program activities proposed for this cooperative agreement.

2. A major operational unit of KEMRI is located in an area of western Kenya with intense and perennial malaria transmission and where incidence and prevalence is very high, and thus is ideally located to evaluate approaches to preventing and controlling these public health problems.

3. KEMRI was established through the Science and Technology Act of the Republic of Kenya and has a Board of Management appointed by the Minister of Health which is responsible for overseeing all research and which has a well-developed secretariat to provide administrative and technical support to research services.

4. KEMRI has been collaborating with health agencies on priority infectious disease research for over 20 years on the grounds of KEMRI facilities in Nairobi, Kisumu and other locations in Kenya. KEMRI has experienced staff, equipment, and facilities to support the collaboration.

C. Funding

Approximately $5,000,000 is available in FY 2005 to fund this award. It is expected that the award will begin on or before August 15, 2005, and will be made for a 12-month budget period within a project period of up to five years. Funding estimates may change.

D. Where To Obtain Additional Information

For general comments or questions about this announcement, contact: Technical Information Management, CDC Procurement and Grants Office, 2920 Brandywine Road, Atlanta, GA 30341-4146. Telephone: 770-488-2700.

For program issues, contact: Ron Stoddard, Division of Parasitic Diseases, 4770 Buford Highway, Atlanta, GA 30341. Telephone: (770) 488-7707. E-mail: RStoddard@cdc.gov.

Dated: March 11, 2005.
William P. Nichols,
Director, Procurement and Grants Office, Centers for Disease Control and Prevention.

[FR Doc. 05-5287 Filed 3-16-05; 8:45 am]

BILLING CODE 4163-18-P